DEPARTMENT OF TRANSPORTATION

Federal Aviation Administration

14 CFR Part 39

[Docket No. FAA-2008-0614; Directorate Identifier 2007-NM-351-AD; Amendment 39-17450; AD 2013-09-08]

RIN 2120-AA64

Airworthiness Directives; the Boeing Company Airplanes

Correction

In document 2013-10657, published in the issue of Tuesday, May 14, 2013 on pages 28128-28130, the following corrections are being made:

§ 39.13 [Corrected]

1. On page 28129, in paragraph (g), in the eighth line, “737-28A1407” should be “737-28A1307”.

2. On page 28130, in the same section, in paragraph (j)(2)(i), “737-28A1407” should read “737-28A1307.

[FR Doc. C1-2013-10657 Filed 5-20-13; 8:45 am]

BILLING CODE 1505-01-D